ENVIRONMENTAL PROTECTION AGENCY

[FRL-7975-5]

Proposed CERCLA Administrative Cost Recovery Settlement; Town of Tilton and Tilton/Northfield Fire Department, Old Pillsbury Mill Superfund Site, Tilton, NH

AGENCY: Environmental Protection Agency (EPA).

ACTION: Notice of proposed settlement; request for public comment.

SUMMARY: In accordance with section 122(i) of the Comprehensive Environmental Response, Compensation, and Liability Act, as amended (“CERCLA”), 42 U.S.C. 9622(i), notice is hereby given of a proposed administrative settlement for recovery of past costs concerning the Old Pillsbury Mill Superfund Site in Tilton, New Hampshire with the following settling parties: Town of Tilton and the Tilton/Northfield Fire Department. The settlement requires the settling parties to pay $378,706.00 to the Hazardous Substance Superfund. The settlement includes a covenant not to sue the settling parties pursuant to section 107(a) of CERCLA, 42 U.S.C. 9606 and 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02214-2023 (Telephone No. 617-918-1440).

DATES: Comments must be submitted on or before October 27, 2005.

ADDRESSES: Comments should be addressed to Audrey Zucker, Enforcement Counsel, U.S. Environmental Protection Agency, Region I, One Congress Street, Suite 1100 (SES), Boston, Massachusetts 02114-2023 (Telephone No. 617-918-1778) and should refer to: In re: Old Pillsbury Mill Superfund Site, U.S. EPA Docket No. 01-2005-0016.

FOR FURTHER INFORMATION CONTACT: A copy of the proposed settlement may be obtained from Audrey Zucker, U.S. Environmental Protection Agency, Region I, Office of Environmental Stewardship, One Congress Street, Suite 1100 (SES), Boston, MA 02114-2023 (Telephone No. 617-918-1778; E-mail zucker.audrey@epa.gov).

Dated: September 12, 2005.
Susan Studlien,
Director, Office of Site Remediation & Restoration, Region 1.

[FR Doc. 05-19262 Filed 9-26-05; 8:45 am]

BILLING CODE 6560-50-P